NUCLEAR REGULATORY COMMISSION

[NRC-2018-0152]

Biweekly Notice: Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from June 30, 2018 to July 16, 2018. The last biweekly notice was published on July 17, 2018.

DATES: Comments must be filed by August 30, 2018. A request for a hearing must be filed by October 1, 2018.

ADDRESSES: You may submit comments by any of the following methods (unless this document describes a different method for submitting comments on a specific subject):

• Federal Rulemaking Website: Go to http://www.regulations.gov and search for Docket ID NRC-2018-0152. Address questions about NRC dockets to Jennifer Borges; telephone: 301-287-9127; email: Jennifer.Borges@nrc.gov. For technical questions, contact the individual listed in the FOR FURTHER INFORMATION CONTACT section of this document.

• Mail Comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington DC 20555-0001; telephone: 301-415-5411; email: Shirley.Rohrer@nrc.gov

SUPPLEMENTARY INFORMATION:

I. Notice of Consideration of Issuance of Amendments to Facility Operating Licenses and Combined Licenses and Proposed No Significant Hazards Consideration Determination

The Commission has made a proposed determination that the following amendment requests involve no significant hazards consideration. Under the Commission's regulations in section 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (First Floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Arizona Public Service Company (APS), et al., Docket Nos. STN 50-528, STN 50-529, and STN 50-530, Palo Verde Nuclear Generating Station, Unit Nos. 1, 2, and 3, Maricopa County, Arizona

Date of amendment request: May 25, 2018. A publicly-available version is in ADAMS under Accession No. ML18145A303.

Description of amendment request: The amendments would revise the technical specification (TS) requirement regarding response time testing of pressure transmitters.

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises the Technical Specification (TS) Definition of Reactor Protective System (RPS) and Engineered Safety Features (ESF) system instrumentation response time to permit Arizona Public Service Company (APS) to evaluate using an NRC-approved methodology and apply a bounding response time for pressure transmitters in lieu of measurement. The requirement for the instrumentation to actuate within the response time assumed in the accident analysis is unaffected.

The response time associated with the RPS and ESF instrumentation is not an initiator of any accident. Therefore, the proposed change has no significant effect on the probability of any accident previously evaluated.

The affected RPS and ESF instrumentation are assumed to actuate their respective components within the required response time to mitigate accidents previously evaluated. Revising the TS definition for RPS and ESF instrumentation response times to allow an NRC-approved methodology for verifying response time for pressure transmitters does not alter the surveillance requirements that verify the RPS and ESF instrumentation response times are within the required limits. As such, the TS will continue to assure that the RPS and ESF instrumentation actuate their associated components within the specified response time to accomplish the required safety functions assumed in the accident analyses. Therefore, the assumptions used in any accidents previously evaluated are unchanged and there is no significant increase in the consequences.

Therefore, the proposed amendment does not involve a significant increase in the probability or consequences of an accident previously evaluated.

2. Does the proposed amendment create the possibility of a new or different kind of accident from any accident previously evaluated?

Response: No.

The proposed change revises the TS Definition of RPS and ESF instrumentation response time to permit APS to evaluate using an NRC-approved methodology and apply a bounding response time for pressure transmitters in lieu of measurement. The proposed change does not involve a physical alteration of the plant (i.e., no new or different type of equipment will be installed). The proposed change does not alter any assumptions made in the safety analyses. The proposed change does not alter the limiting conditions for operation for the RPS or ESF instrumentation, nor does it change the Surveillance Requirement to verify the RPS and ESF instrumentation response times are within the required limits. As such, the proposed change does not alter the operability requirements for the RPS and ESF instrumentation, and therefore, does not introduce any new failure modes.

Therefore, the proposed amendment does not create the possibility of a new or different kind of accident from any accident previously evaluated.

3. Does the proposed amendment involve a significant reduction in a margin of safety?

Response: No.

The proposed change revises the TS Definition of RPS and ESF instrumentation response time to permit APS to evaluate using an NRC-approved methodology and apply a bounding response time for pressure transmitters in lieu of measurement. The proposed change has no effect on the required RPS and ESF instrumentation response times or setpoints assumed in the safety analyses and the TS requirements to verify those response times and setpoints.

The proposed change does not alter any Safety Limits or analytical limits in the safety analysis. The proposed change does not alter the TS operability requirements for the RPS and ESF instrumentation. The RPS and ESF instrumentation actuation of the required systems and components at the required setpoints and within the specified response times will continue to accomplish the design basis safety functions of the associated systems and components in the same manner as before. As such, the RPS and ESF instrumentation will continue to perform the required safety functions as assumed in the safety analyses for all previously evaluated accidents.

Therefore, the proposed amendment does not involve a significant reduction in the margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, Arizona 85072-2034.

NRC Branch Chief: Robert J. Pascarelli.

Duke Energy Carolinas, LLC, Docket Nos. 50-369 and 50-370, McGuire Nuclear Station, Unit Nos. 1 and 2, Mecklenburg County, North Carolina

Date of amendment request: February 26, 2018. A publicly-available version is in ADAMS under Accession No. ML18065A180.

Description of amendment request: The amendments would modify Technical Specification (TS) 3.4.11, “Pressurizer Power Operated Relief Valves (PORVs),” to resolve non-conservative Required Actions. TS 3.8.11, Condition B for one or two PORVs inoperable and not capable of being manually cycled is revised to split it into three separate Conditions: (1) One Train B PORV inoperable and not capable of being manually cycled, (2) one Train A PORV inoperable and not capable of being manually cycled, and (3) two Train B PORVs inoperable and not capable of being manually cycled. TS 3.8.11, Condition C for one block valve inoperable is revised to split it into two separate Conditions: (1) One Train B block valve inoperable and (2) one Train A block valve inoperable. TS 3.8.11, Condition F for two block valves inoperable is revised to be new Condition I for two Train B block valves inoperable. A new Condition, Condition J, is added for one Train B PORV and the other Train B block valve inoperable. Current Condition G for three block valve inoperable is revised to be new Condition K. Current Condition D is revised and renamed as Condition E, current Condition E is revised and renamed as Condition F and current Condition H is revised and renamed as new Condition L. Surveillance Requirement (SR) 3.4.11.1 Note is revised to include additional Conditions when performing this SR is not required for inoperable block valves in these Conditions.

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises the TS for the purpose of correcting non-conservative TS Required Actions when PORVs and associated block valves are inoperable. By requiring inoperable PORVs and block valves be returned to operable status within specified completion times, the proposed change will increase the availability of equipment for performing safety-related functions. The proposed change ensures assumptions associated with accident analyses are met. The probability of an accident previously evaluated is not affected and there is no increase in the consequences of any accident previously evaluated.

2. Does the proposed amendment create the possibility of a new or different kind of accident from any accident previously evaluated?

Response: No.

The proposed change revises the TS for the purpose of correcting non-conservative TS Required Actions. The proposed change does not introduce new equipment or new equipment operating modes. The proposed change does not increase the likelihood of the malfunction of any system, structure, or component, or negatively impact any analyzed accident. The proposed change ensures assumptions made in the safety analyses are met. Therefore, the proposed change does not create the possibility of a new or different kind of accident from any accident previously evaluated.

3. Does the proposed amendment involve a significant reduction in the margin of safety?

Response: No.

Overall plant safety would be enhanced as a result of the additional restrictions placed on the PORVs and associated block valves. The proposed change does not alter the manner in which safety limits, limiting safety system settings, or limiting conditions for operation are determined.

The safety analysis assumptions and acceptance criteria are not affected by this change. Therefore, the proposed change does not involve a reduction in a margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street—DEC45A Charlotte, NC 28202-1802.

NRC Branch Chief: Michael T. Markley.

Entergy Louisiana, LLC, and Entergy Operations, Inc., Docket No. 50-458, River Bend Station, Unit No. 1 (RBS), West Feliciana Parish, Louisiana

Date of amendment request: April 30, 2018. A publicly-available version is in ADAMS under Accession No. ML18128A044.

Description of amendment request: The proposed change would revise the Emergency Plan for RBS to adopt the revised Emergency Action Level (EAL) scheme described in Revision 6 to Nuclear Energy Institute's (NEI's), NEI 99-01, “Development of Emergency Action Levels for Non-Passive Reactors.” Revision 6 to NEI 99-01 was endorsed by the NRC by letter dated March 28, 2013 (ADAMS Accession No. ML12346A463).

Basis for proposed no significant hazards consideration determination: As required by 10 CFR 50.91(a), the licensee has provided its analysis of the issue of no significant hazards consideration, which is presented below:

1. Do the proposed changes involve a significant increase in the probability or consequences of an accident previously evaluated?

Response: No.

The proposed changes to the RBS EALs do not involve any physical changes to plant equipment or systems and do not alter the assumptions of any accident analyses. The proposed changes do not adversely affect accident initiators or precursors and do not alter design assumptions, plant configuration, or the manner in which the plant is operated and maintained. The proposed changes do not adversely affect the ability of structures, systems or components (SSCs) to perform intended safety functions in mitigating the consequences of an initiating event within the assumed acceptance limits.

Therefore, the changes do not involve a significant increase in the probability or consequences of an accident previously evaluated.

2. Do the proposed changes create the possibility of a new or different kind of accident from any accident previously evaluated?

Response: No.

No new accident scenarios, failure mechanisms, or limiting single failures are introduced as a result of the proposed changes. The changes do not challenge the integrity or performance of any safety-related systems. No plant equipment is installed or removed, and the changes do not alter the design, physical configuration, or method of operation of any plant SSC. Because EALs are not accident initiators and no physical changes are made to the plant, no new causal mechanisms are introduced.

Therefore, the changes do not create the possibility of a new or different kind of accident from an accident previously evaluated.

3. Do the proposed changes involve a significant reduction in a margin of safety?

Response: No.

Margin of safety is associated with the ability of the fission product barriers (i.e., fuel cladding, reactor coolant system pressure boundary, and containment structure) to limit the level of radiation dose to the public. The proposed changes do not impact operation of the plant and no accident analyses are affected by the proposed changes. The changes do not affect the Technical Specifications or the method of operating the plant. Additionally, the proposed changes will not relax any criteria used to establish safety limits and will not relax any safety system settings. The safety analysis acceptance criteria are not affected by these changes. The proposed changes will not result in plant operation in a configuration outside the design basis. The proposed changes do not adversely affect systems that respond to safely shut down the plant and to maintain the plant in a safe shutdown condition.

Therefore, the changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Anna Vinson Jones, Senior Counsel—Entergy Services, Inc., 101 Constitution Avenue NW, Suite 200 East, Washington DC 20001.

NRC Branch Chief: Robert J. Pascarelli.

Entergy Operations, Inc. (Entergy), System Energy Resources, Inc., Cooperative Energy, A Mississippi Electric Cooperative, and Entergy Mississippi, Inc., Docket No. 50-416, Grand Gulf Nuclear Station, Unit No. 1, Claiborne County, Mississippi

Date of amendment request: April 12, 2018, as supplemented by letter dated June 7, 2018. Publicly-available versions are in ADAMS under Accession Nos. ML18102B445 and ML18158A514, respectively.

Description of amendment request: The proposed amendment would modify the technical specifications (TSs) by relocating specific surveillance frequencies to a licensee-controlled program with the adoption of Technical Specification Task Force (TSTF) Traveler TSTF-425, Revision 3, “Relocate Surveillance Frequencies to Licensee Control-RITSTF [Risk-Informed TSTF] Initiative 5b.” Additionally, the change would add a new program, the Surveillance Frequency Control Program (SFCP), to TS Chapter 5.0, “Administrative Controls.”

The NRC staff issued a “Notice of Availability of Technical Specification Improvement to Relocate Surveillance Frequencies to Licensee Control-Risk-Informed Technical Specification Task Force (RITSTF) Initiative 5b, Technical Specification Task Force-425, Revision 3,” in the Federal Register on July 6, 2009 (74 FR 31996). The notice included a model safety evaluation, a model no significant hazards consideration (NSHC) determination, and a model license amendment request. In its application dated April 12, 2018, the licensee affirmed the applicability of the model NSHC determination, which is presented below.

Basis for proposed NSHC determination: As required by 10 CFR 50.91(a), an analysis of the issue of NSHC adopted by the licensee is presented below:

1. Does the proposed change involve a significant increase in the probability or consequences of any accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Does the proposed change create the possibility of a new or different kind of accident from any previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed changes do not create the possibility of a new or different kind of accident from any accident previously evaluated.

3. Does the proposed change involve a significant reduction in a margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, Entergy will perform a probabilistic risk evaluation using the guidance contained in NRC approved [Nuclear Energy Institute] NEI 04-10, Rev. 1 in accordance with the TS SFCP. NEI 04-10, Rev. 1, methodology provides reasonable acceptance guidelines and methods for evaluating the risk increase of proposed changes to surveillance frequencies consistent with Regulatory Guide 1.177.

Therefore, the proposed changes do not involve a significant reduction in a margin of safety.

The NRC staff has reviewed the analysis adopted by the licensee and, based on this review, it appears that the three standards of 10 CFR 50.92(c) are satisfied. Therefore, the NRC staff proposes to determine that the amendment request involves NSHC.

Attorney for licensee: Anna Vinson Jones, Senior Counsel/Legal Department, Entergy Services, Inc., 101 Constitution Avenue NW, Washington, DC 20001.

NRC Branch Chief: Robert J. Pascarelli.

Entergy Operations, Inc., Docket No. 50-382, Waterford Steam Electric Station, Unit No. 3 (Waterford 3), St. Charles Parish, Louisiana

Date of amendment request: March 26, 2018, as supplemented by letter dated May 17, 2018. Publicly-available versions are in ADAMS under Accession Nos. ML18085B196 and ML18137A494, respectively.

Description of amendment request: The proposed amendment would revise Waterford 3 Technical Specifications (TS) Section 3/4.7.4, “Ultimate Heat Sink.” Specifically, the proposed amendment would correct the wet cooling tower basin level discrepancy, revise requirements for cooling fan operation described in TS 3.7.4 Action Statements a, c, and d, and revise TS Table 3.7-3, “Ultimate Heat Sink Minimum Fan Requirements Per Train.”

Basis for proposed no significant hazards consideration determination: As required by 10 CFR 50.91(a), the licensee has provided its analysis of the issue of no significant hazards consideration, which is presented below:

1. Does the proposed change involve a significant increase in the probability or consequences of an accident previously evaluated?

Response: No.

The proposed change modifies Technical Specification 3/4.7.4 to be consistent with the revised design basis calculations. This change is necessary to preserve the assumptions and limits of the revised ultimate heat sink design basis calculation. The calculation determines the maximum number of cooling tower fans allowed out-of-service for a given dry bulb temperature and establishes appropriate cooling tower fan operating requirements. The proposed change does not directly affect any material condition of the plant that could contribute to an accident or that could contribute to the consequences of an accident. The proposed change ensures that the mitigating effects of the ultimate heat sink will be consistent with the design basis analysis. Therefore, the proposed change will not involve a significant increase in the probability or consequences of any accident previously evaluated.

2. Does the proposed change create the possibility of a new or different kind of accident from any accident previously evaluated?

Response: No.

The proposed change modifies Technical Specification 3/4.7.4 to be consistent with the revised design basis calculations. [The revised calculation modifies the dry and wet cooling tower fan operability requirements to account for increased recirculation impacts for different ambient conditions and heat loads.] The proposed change to Technical Specification 3/4.7.4 does not alter the operation of the plant or the manner in which the plant is operated such that it created credible new failure mechanisms, malfunctions, or accident initiators. Therefore, the proposed change does not create the possibility of a new or different kind of accident from any accident previously evaluated.

3. Does the proposed change involve a significant reduction in a margin of safety?

Response: No.

The proposed change modifies Technical Specification 3/4.7.4 to be consistent with the revised design basis calculations. The modified dry and wet cooling tower fan operability requirements result from placing lower limits on the dry bulb temperatures in the Technical Specification and limits on the number of wet cooling tower out-of-service fans per cell. The proposed change preserves the margin of safety by ensuring that the minimum number of operable fans for a given temperature are capable of removing the heat duty for the ultimate heat sink. The proposed change does not exceed or alter a design basis safety limit and maintains the ultimate heat sink capability of performing its safety function. Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Anna Vinson Jones, Senior Counsel, Entergy Services, Inc., 101 Constitution Avenue NW, Suite 200 East, Washington, DC 20001.

NRC Branch Chief: Robert J. Pascarelli.

Exelon Generation Company, LLC, Docket No. 50-244, R. E. Ginna Nuclear Power Plant, Wayne County, New York

Date of amendment request June 25, 2018. A publicly-available version is in ADAMS under Accession No. ML18176A327.

Description of amendment request: The proposed amendment would revise the requirements on control and shutdown rods, and rod and bank position indication in Technical Specification (TS) 3.1.4, “Rod Group Alignment Limits,” TS 3.1.5, “Shutdown Bank Insertion Limit,” TS 3.1.6, “Control Bank Insertion Limits,” and TS 3.1.7, “Rod Position Indication” consistent with NRC-approved Technical Specification Task Force Traveler (TSTF)-547, Revision 1, “Clarification of Rod Position Requirements” dated March 4, 2016 (ADAMS Accession Package No. ML16012A126).

Basis for proposed no significant hazards consideration determination: As required by 10 CFR 50.91(a), the licensee has provided its analysis of the issue of no significant hazards consideration, which is presented below:

1. Does the proposed change involve a significant increase in the probability or consequences of an accident previously evaluated?

Response: No.

Control and shutdown rods are assumed to insert into the core to shut down the reactor in evaluated accidents. Rod insertion limits ensure that adequate negative reactivity is available to provide the assumed shutdown margin (SDM). Rod alignment and overlap limits maintain an appropriate power distribution and reactivity insertion profile.

Control and shutdown rods are initiators to several accidents previously evaluated, such as rod ejection. The proposed change does not change the limiting conditions for operation for the rods or make any technical changes to the Technical Specifications (TS) Surveillance Requirements (SRs) governing the rods. Therefore, the proposed change has no effect on the probability of any accident previously evaluated.

Revising the TS Required Actions to provide a limited time to repair rod movement control has no effect on the SDM assumed in the accident analysis as the proposed Required Actions require verification that SDM is maintained. The effects on power distribution will not cause a significant increase in the consequences of any accident previously evaluated as all TS requirements on power distribution continue to be applicable.

Revising the TS Required Actions to provide an alternative to frequent use of the moveable incore detector system to verify the position of rods with an inoperable rod position indicator does not change the requirements for the rods to be aligned and within the insertion limits.

Therefore, the assumptions used in any accidents previously evaluated are unchanged and there is no significant increase in the consequences.

The proposed change to resolve the differences in the TS ensure that the intended Actions are followed when equipment is inoperable. Actions taken with inoperable equipment are not assumptions in the accidents previously evaluated and have no significant effect on the consequences.

The proposed change to eliminate an unnecessary action has no effect on the consequences of accidents previously evaluated as the analysis of those accidents did not consider the use of the actions.

The proposed change to increase consistency within the TS has no effect on the consequences of accidents previously evaluated as the proposed change clarifies the application of the existing requirements and does not change the intent.

Therefore, the proposed change does not involve a significant increase in the probability or consequences of an accident previously evaluated.

2. Does the proposed change create the possibility of a new or different accident from any accident previously evaluated?

Response: No.

The proposed change does not involve a physical alteration of the plant (i.e., no new or different type of equipment will be installed). The change does not alter assumptions made in the safety analyses. The proposed change does not alter the limiting conditions for operation for the rods or make any technical changes to the Surveillance Requirements governing the rods. The proposed change [to actions] maintains or improves safety when equipment is inoperable and does not introduce new failure modes.

Therefore, the proposed change does not create the possibility of a new or different accident from any accident previously evaluated.

3. Does the proposed change involve a significant reduction in a margin of safety?

Response: No.

[The proposed change to allow time for rod position indication to stabilize after rod movement and to allow an alternative method of verifying rod position has no effect on the safety margin as actual rod position is not affected.] The proposed change to provide time to repair rods that are operable but immovable does not result in a significant reduction in the margin of safety because all rods must be verified to be operable, and all other banks must be within the insertion limits. The remaining proposed changes to make the requirements internally consistent and to eliminate unnecessary actions do not affect the margin of safety as the changes do not affect the ability of the rods to perform their specified safety function.

Therefore, the proposed change does not involve a significant reduction in a margin of safety.

Based on this review, it appears that the three standards of 10 CFR 50.92(c) are satisfied. Therefore the NRC staff proposes to determine that the amendment request involves no significant hazards consideration.

Attorney for licensee: Tamra Domeyer, Associate General Counsel, Exelon Generation Company, LLC, 4300 Winfield Road, Warrenville, IL 60555.

NRC Branch Chief: James G. Danna.

Southern Nuclear Operating Company, Inc., Docket Nos. 50-348 and 50-364, Joseph M. Farley Nuclear Plant, Unit Nos. 1 and 2, Houston County, Alabama

Date of amendment request: December 21, 2017, as supplemented by letter dated June 7, 2018. Publicly-available versions are in ADAMS under Accession Nos. ML17355A516, and ML18158A579, respectively.

Description of amendment request: The proposed amendment would revise TS 3.3.2, “Engineered Safety Feature Actuation System (ESFAS) Instrumentation,” by adding TS Actions that allow time to restore one high steam flow channel per steam line to Operable status before requiring a unit shutdown in the event two channels in one or more steam lines are discovered inoperable due to the trip setting not within Allowable Value.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment does not affect accident initiators or precursors nor adversely alter the design assumptions, conditions, and configuration of the facility. The proposed amendment does not alter any plant equipment or operating practices with respect to such initiators or precursors in a manner that the probability of an accident is increased.

The proposed amendment does not involve a physical change to the ESFAS, nor does it change the safety function of the ESFAS instrumentation or the equipment supported by the ESFAS instrumentation. The ESFAS high steam flow channels are not assumed in the mitigation of any previously evaluated accident or transient. Automatic steam line isolation on high steam flow, containment high pressure, or low steam pressure is assumed in the mitigation of a major secondary system pipe rupture accident which bounds minor secondary system pipe breaks and the accidental opening of a secondary system steam dump, relief, or safety valve. Manual steam line isolation capability is also provided [assumed] in the mitigation of spectra of smaller secondary system pipe ruptures. During the time proposed to normalize the high steam flow channels, automatic ESFAS steam line isolation continues to be provided from either a containment high pressure signal or a low steam pressure signal, which are not impacted by the proposed license change. Additionally, manual steam line isolation continues to be provided by the ESFAS manual channels, which are not impacted by the proposed license change. As a result, the proposed amendment does not significantly alter assumptions relative to the mitigation of an accident or transient event and the proposed change does not involve a significant increase in the probability or consequences of an accident previously evaluated.

2. Does the proposed change create the possibility of a new or different kind of accident from any accident previously evaluated?

Response: No.

With respect to a new or different kind of accident, there are no proposed design changes to the ESFAS; nor are there any changes in the method by which safety related plant structures, systems, and components perform their specified safety functions. The proposed amendment will not affect the normal method of plant operation or revise any operating parameters. No new accident scenarios, transient precursor, failure mechanisms, or limiting single failures will be introduced as a result of this proposed change and the failure modes and effects analyses of SSCs important to safety are not altered as a result of this proposed change.

The proposed amendment does not alter the design or performance of the ESFAS, rather, it adds actions that allow time to normalize the high steam flow channels associated with the ESFAS steam line isolation before requiring a unit shutdown in the event multiple channels are discovered inoperable due to the trip settings not within the required accuracy. The process to normalize the high steam flow channels uses current procedures, methods, and processes already established and currently in use and, therefore, does not constitute a new type of test.

No changes are being proposed to the procedures that operate the plant equipment and the change does not have a detrimental impact on the manner in which plant equipment operates or responds to an actuation signal.

Therefore, the proposed change will not create the possibility of a new or different accident previously evaluated.

3. Does the proposed change involve a significant reduction in a margin of safety?

Response: No.

The margin of safety is related to the ability of the fission product barriers to perform their design functions during and following an accident. These barriers include the fuel cladding, the reactor coolant system, and the containment. The performance of these fission product barriers will not be affected by the proposed change.

Instrumentation safety margin is established by ensuring the limiting safety system settings (LSSSs) automatically actuate the applicable design function to correct an abnormal situation before a safety limit is exceeded. Safety analysis limits are established for reactor trip system and ESFAS instrumentation functions related to those variables having significant safety functions. Containment pressure and steam line pressure provide the limiting parameter values assumed in the safety and transient analyses for mitigation of previously evaluated accidents and transients, including steam line break accidents. The high steam flow in two steam lines instrument function is not used in the safety analysis and a safety analysis limit is not specified for this trip function. Therefore, the high steam flow in two steam lines instrument function does not represent an LSSS because this instrumentation does not monitor a plant variable on which a safety limit has been placed.

The controlling parameters established to isolate the steam lines during an accident or transient are not affected by the proposed amendment and no design basis or safety limit is altered as a result of the proposed change. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, Inc., 40 Inverness Center Parkway, Birmingham, AL 35242.

NRC Branch Chief: Michael T. Markley.

STP Nuclear Operating Company (STPNOC), Docket Nos. 50-498 and 50-499, South Texas Project, Unit Nos. 1 and 2, Matagorda County, Texas

Date of amendment request: March 27, 2018. A publicly-available version is in ADAMS under Accession No. ML18086B761.

Description of amendment request: The proposed amendment would revise certain minimum voltage and frequency acceptance criteria for steady-state standby diesel generator (SBDG) surveillance requirement testing. Specifically, the licensee would revise several subsections of Technical Specification 3.8.1.1, “A.C. [Alternating Current] Sources, Operating,” to correct non-conservative acceptance criteria.

Basis for proposed no significant hazards consideration determination: As required by 10 CFR 50.91(a), the licensee has provided its analysis of the issue of no significant hazards consideration, which is presented below:

1. Does the proposed change involve a significant increase in the probability or consequences of an accident previously evaluated?

Response: No.

The SBDGs are not initiators for any accidents evaluated in the Updated Final Safety Analysis Report (UFSAR). The proposed change provides a more conservative range of acceptable SBDG voltage and frequency values. Thus, Technical Specification Surveillance Requirements will continue to demonstrate sufficient margin such that mitigation of accidents evaluated in the UFSAR is not impacted. The proposed change does not alter the design function of the SBDGs nor does it affect how the SBDGs are operated or physically tested. Therefore, the proposed change does not involve an increase in the probability or consequences of an accident previously evaluated.

2. Does the proposed change create the possibility of a new or different kind of accident from any accident previously evaluated?

Response: No.

The proposed change does not involve any physical alterations and no new or different types of equipment are being installed. Requiring a more conservative range of acceptable SBDG voltage and frequency values does not affect SBDG operation and does not affect the ability of the SBDGs to perform their design function. There are no new credible failure mechanisms, malfunctions, or accident initiators introduced as a result of the proposed change. Therefore, the proposed change does not create the possibility of a new or different kind of accident from any accident previously evaluated.

3. Does the proposed change involve a significant reduction in a margin of safety?

Response: No.

Since the proposed change provides a more conservative range of acceptable SBDG voltage and frequency values, the margin of safety is maintained. Where required, Technical Specification Surveillance Requirement acceptance criteria have been procedurally adjusted to ensure equipment performance meets accident analysis assumptions considering uncertainties in steady-state SBDG voltage and frequency. STPNOC has evaluated the effects of SBDG voltage and frequency variations on affected equipment and confirmed that the design basis analyses are not adversely affected. Therefore, the proposed change does not involve a significant reduction in a margin of safety.

The NRC staff has reviewed the licensee's analysis and, based on this review, it appears that the standards of 10 CFR 50.92(c) are satisfied. Therefore, the NRC staff proposes to determine that the request for amendments involves no significant hazards consideration.

Attorney for licensee: Kym Harshaw, Vice President and General Counsel, STP Nuclear Operating Company, P.O. Box 289, Wadsworth, TX 77483.

NRC Branch Chief: Robert J. Pascarelli.

II. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Nebraska Public Power District, Docket No. 50-298, Cooper Nuclear Station (CNS), Nemaha County, Nebraska

Date of amendment request: May 10, 2018. A publicly-available version is in ADAMS under Accession No. ML18137A199.

Brief description of amendment request: The proposed amendment would modify the CNS technical specifications by revising the two recirculation loop and single recirculation loop Safety Limit Minimum Critical Power Ratio values to reflect the results of a cycle specific calculation.

Date of publication of individual notice in Federal Register: July 2, 2018 (83 FR 30984).

Expiration date of individual notice: August 1, 2018 (public comments); August 31, 2018 (hearing requests).

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress, LLC, Docket Nos. 50-325 and 50-324, Brunswick Steam Electric Plant (BSEP), Unit Nos. 1 and 2, Brunswick County, North Carolina

Date of amendment request: November 15, 2017, as supplemented by letter dated May 23, 2018.

Brief description of amendments: The amendments revised fire protection license condition 2.B.(6) to allow, as a performance-based method, certain currently-installed thermal insulation materials to be retained and allow future use of these insulation materials in limited applications subject to appropriate engineering reviews and controls, as a deviation from the National Fire Protection Association Standard 805, Chapter 3, Section 3.3, Prevention.

Date of issuance: July 6, 2018.

Effective date: As of the date of issuance and shall be implemented within 120 days.

Amendment Nos.: 284 (Unit 1) and 312 (Unit 2). A publicly-available version is in ADAMS under Accession No. ML18106B169; documents related to these amendments are listed in the Safety Evaluation enclosed with the amendments.

Renewed Facility Operating License Nos. DPR-71 and DPR-62: Amendments revised the Renewed Facility Operating Licenses.

Date of initial notice in Federal Register: February 13, 2018 (83 FR 6221). The supplemental letter dated May 23, 2018, provided additional information that clarified the application, did not expand the scope of the application as originally noticed, and did not change the staff's original proposed no significant hazards consideration determination as published in the Federal Register.

The Commission's related evaluation of the amendments is contained in a Safety Evaluation dated July 6, 2018.

No significant hazards consideration comments received: No.

Florida Power & Light Company, et al., Docket Nos. 50-335 and 50-389, St. Lucie Plant, Unit Nos. 1 and 2, St. Lucie County, Florida

Date of amendment request: September 14, 2017, as supplemented by letter dated February 14, 2018.

Brief description of amendments: The amendments revised the St. Lucie Plant, Unit Nos. 1 and 2, Technical Specifications related to inoperable Auxiliary Feedwater pump steam supply.

Date of issuance: July 9, 2018.

Effective date: As of the date of issuance and shall be implemented within 90 days of issuance.

Amendment Nos.: 245 (Unit 1) and 196 (Unit 2). A publicly-available version is in ADAMS under Accession No. ML18129A149; documents related to these amendments are listed in the Safety Evaluation enclosed with the amendments.

Renewed Facility Operating License Nos. DPR-67 and NPF-16: The amendments revised the Renewed Facility Operating Licenses and Technical Specifications.

Date of initial notice in Federal Register: November 7, 2017 (82 FR 51652). The supplement dated February 14, 2018, provided additional information that clarified the application, did not expand the scope of the application as originally noticed, and did not change the staff's original proposed no significant hazards consideration determination as published in the Federal Register.

The Commission's related evaluation of the amendments is contained in a Safety Evaluation dated July 9, 2018.

No significant hazards consideration comments received: No.

Indiana Michigan Power Company, Docket Nos. 50-315 and 50-316, Donald C. Cook Nuclear Plant, Unit Nos. 1 and 2, Berrien County, Michigan

Date of amendment request: November 7, 2017, as supplemented by letter dated May 4, 2018.

Brief description of amendments: The amendments allow for deviation from National Fire Protection Association 805 requirements to allow for currently installed non-plenum listed cables routed above suspended ceilings and to allow for the use of thin wall electrical metallic tubing and embedded/buried plastic conduit.

Date of issuance: July 6, 2018.

Effective date: As of the date of issuance and shall be implemented within 90 days of issuance.

Amendment Nos.: 340 (Unit 1) and 322 (Unit 2). A publicly-available version is in ADAMS under Accession No. ML18131A253; documents related to these amendments are listed in the Safety Evaluation enclosed with the amendments.

Facility Operating License Nos. DPR-58 and DPR-74: The amendments revised the Facility Operating Licenses.

Date of initial notice in Federal Register: January 2, 2018 (83 FR 169). The supplemental letter dated May 4, 2018, provided additional information that clarified the application, did not expand the scope of the application as originally noticed, and did not change the staff's original proposed no significant hazards consideration determination as published in the Federal Register.

The Commission's related evaluation of the amendment is contained in a Safety Evaluation dated July 6, 2018.

No significant hazards consideration comments received. No.

Tennessee Valley Authority, Docket No. 50-259, Browns Ferry Nuclear Plant, Unit No. 1, Limestone County, Alabama

Date of amendment request: March 16, 2018, as supplemented by letter dated April 19, 2018.

Brief description of amendment: The amendment revised License Condition 2.C(18)(a)3 for Unit No. 1 to alter the time for submittal of a revised replacement steam dryer analysis from at least 90 days prior to the start of the Unit No. 1 extended power uprate outage to 60 days prior to exceeding 3458 megawatt thermal after the outage.

Date of issuance: July 10, 2018.

Effective date: As of the date of issuance and shall be implemented immediately.

Amendment No.: 304. A publicly-available version is in ADAMS under Accession No. ML18171A337; documents related to this amendment are listed in the Safety Evaluation enclosed with the amendment.

Renewed Facility Operating License No. DPR-33: Amendment revised the Unit 1 operating license.

Date of initial notice in Federal Register: The license amendment request was originally noticed in the Federal Register on April 10, 2018 (83 FR 15418). The supplement dated April 19, 2018, was noticed on May 8, 2018 (83 FR 20862), which superseded the original notice in its entirety.

The Commission's related evaluation of the amendment is contained in the Safety Evaluation dated July 10, 2018.

No significant hazards consideration comments received: No.

Dated at Rockville, Maryland, this 18th day of July 2018.
For the Nuclear Regulatory Commission.
Tara Inverso,
Acting Deputy Director, Division of Operating Reactor Licensing, Office of Nuclear Reactor Regulation.

[FR Doc. 2018-15682 Filed 7-30-18; 8:45 am]

BILLING CODE 7590-01-P